DEPARTMENT OF COMMERCE

National Oceanic and Atmospheric Administration

Science Advisory Board, Notice of Public Meeting

AGENCY: Office of Oceanic and Atmospheric Research (OAR), National Oceanic and Atmospheric Administration (NOAA), Department of Commerce (DOC).

ACTION: Notice of Public Meeting.

SUMMARY: This notice sets forth the schedule and proposed agenda of a forthcoming meeting of the NOAA Science Advisory Board. The members will discuss and provide advice on issues outlined in the agenda below.

DATES: The meeting is scheduled for: Wednesday, August 4, 2010 from 3 p.m.-5 p.m. Eastern Time.

ADDRESSES: Conference call. Public access is available at: NOAA, SSMC 3, Room 11836, 1315 East-West Highway, Silver Spring, MD.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov).

SUPPLEMENTARY INFORMATION: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters to be Considered: The agenda for the meeting is as follows:

Date and Time: Wednesday, August 4, 2010; 3 p.m.-5 p.m. Eastern Time

Agenda

1. Discussion and consideration of comments from the Working Groups of the NOAA Science Advisory Board on the NOAA Next Generation Strategic Plan and decision on final comments to be transmitted to NOAA.

2. Discussion and consideration of the transmittal letter to NOAA highlighting recommendations from the report from the April 2010 meeting of the Climate Working Group.

3. Discussion and consideration of next actions on NOAA Science Workshop White Paper.

Dated: July 23, 2010.
Mark E. Brown,
Chief Financial Officer, Office of Oceanic and Atmospheric Research, National Oceanic and Atmospheric Administration.

[FR Doc. 2010-18588 Filed 7-28-10; 8:45 am]

BILLING CODE 3510-KD-P